DEPARTMENT OF STATE

[Public Notice: 12077]

Proposal To Extend Cultural Property Agreement Between the United States and China

SUMMARY: Proposal to extend The Memorandum of Understanding between the Government of the United States of America and the Government of the People's Republic of China Concerning the Imposition of Import Restrictions on Categories of Archaeological Material From the Paleolithic Period Through the Tang Dynasty and Monumental Sculpture and Wall Art at least 250 Years Old.

FOR FURTHER INFORMATION CONTACT: Anne Compton, Cultural Heritage Center, Bureau of Educational and Cultural Affairs: (202) 377-9783; culprop@state.gov; include “China” in the subject line.

SUPPLEMENTARY INFORMATION: Pursuant to the authority vested in the Assistant Secretary of State for Educational and Cultural Affairs, and pursuant to 19 U.S.C. 2602(f)(1), an extension of The Memorandum of Understanding Between the Government of the United States of America and the Government of the People's Republic of China Concerning the Imposition of Import Restrictions on Categories of Archaeological Material from the Paleolithic Period through the Tang Dynasty and Monumental Sculpture and Wall Art at least 250 Years Old is hereby proposed. A copy of the Memorandum of Understanding, the Designated List of categories of material restricted from import into the United States and related information can be found at the Cultural Heritage Center website: http://culturalheritage.state.gov.

Allison R. Davis Lehmann,
Executive Director, Cultural Property Advisory Committee, Bureau of Educational and Cultural Affairs, Department of State.

[FR Doc. 2023-10769 Filed 5-18-23; 8:45 am]

BILLING CODE 4710-05-P